DEPARTMENT OF STATE

[Public Notice 5025]

Shipping Coordinating Committee—Notice of Meeting

The Shipping Coordinating Committee (SHC) will conduct an open meeting at 9:30 a.m. on Wednesday May 25, 2005, in room 3317, U.S. Coast Guard Headquarters, 2100 Second Street, SW., Washington, DC. The purpose of the meeting is to prepare for the 51st session of the Subcommittee on Safety of Navigation (NAV) of the International Maritime Organization (IMO) which is scheduled for June 6-10, 2005, at the IMO Headquarters in London.

Items of principal interest on the agenda are:

—Routing of ships, ship reporting and related matters

—Revision of the performance standards for integrated navigation systems (INS) and integrated bridge systems (IBS)

—Review of the 2000 High Speed Craft (HSC) Code and amendment to the Dynamically Supported Craft (DSC) Code and the 1994 HSC Code

—Evaluation of the use of Electronic Chart Display and Information System (ECDIS) and Electronic Navigational Chart (ENC) development

—Review of the offshore supply vessel (OSV) guidelines

—Review of the Special Purpose Ships (SPS) Code

—International Telecommunication Union (TTU) matters, including Radiocommunication ITU-R Study Group 8

—Passenger ship safety: Effective voyage planning for passenger ships

—Measures to enhance maritime security

—Worldwide radio navigation system (WWRNS)

—Casualty analysis

—Consideration of International Association of Classification Societies unified interpretations

—Revision of the performance standards for voyage data recorders (VDR) and simplified VDR (S-VDR)

Members of the public may attend these meetings up to the seating capacity of the room. Interested persons may seek information by writing: Mr. Edward J. LaRue, Jr., U.S. Coast Guard (G-MWV-2), Room 1407, 2100 Second Street SW., Washington, DC 20593-0001 or by calling: (202) 267-0416.

Dated: May 4, 2005.
Clayton L. Diamond,
Executive Secretary, Shipping Coordinating Committee, Department of State.

[FR Doc. 05-9600 Filed 5-12-05; 8:45 am]

BILLING CODE 4710-07-M